ENVIRONMENTAL PROTECTION AGENCY

[FRL-9473-3]

Proposed CERCLA Administrative Past Cost Recovery Settlement; IUNA, Inc. aka IU North America, Inc., Mine 2028 Site, Brazil, IN, SF Site #B5KK

AGENCY: Environmental Protection Agency (EPA).

ACTION: Notice; request for public comment.

SUMMARY: In accordance with Section 122(i) of the Comprehensive Environmental Response, Compensation, and Liability Act, as amended (“CERCLA”), 42 U.S.C. 9622(i), notice is hereby given of a proposed administrative settlement for recovery of past response costs concerning the Mine 2028 site in Brazil, Clay County, Indiana with the following settling party: IUNA, Inc., also known as IU North America, Inc. The settlement requires the settling party to pay $100,000 to the Hazardous Substance Superfund. The settlement includes a covenant not to sue the settling party pursuant to Section 107(a) of CERCLA, 42 U.S.C. 9607(a). For thirty (30) days following the date of publication of this notice, the EPA will receive written comments relating to the settlement. The EPA will consider all comments received and may modify or withdraw its consent to the settlement if comments received disclose facts or considerations which indicate that the settlement is inappropriate, improper, or inadequate. The EPA's response to any comments received will be available for public inspection at EPA's Record Center, U.S. EPA, Room 714, 77 West Jackson Boulevard, Chicago, IL 60604.

DATES: Comments must be submitted on or before October 31, 2011.

ADDRESSES: The proposed settlement is available for public inspection at EPA's Record Center, Room 714, U.S. EPA 77 West Jackson Boulevard, Chicago, IL. A copy of the proposed settlement may be obtained from Mr. Jerome Kujawa U.S. EPA-ORC (C-14J), 77 West Jackson Blvd, Chicago, IL 60604 or kujawa.jerome@epa.gov Comments should reference the Mine 2028 Site in Brazil, Indiana and EPA Docket No. V-W-11-C-977 and should be addressed to Mr. Jerome Kujawa.

FOR FURTHER INFORMATION CONTACT: Mr. Jerome Kujawa, U.S. EPA Office of Regional Counsel (C-14J), 77 West Jackson Blvd., tel. #(312)-886-6731 or kujawa.jerome@epa.gov.

Dated: September 13, 2011.
Richard C. Karl,
Director, Superfund Division, U.S. EPA Region 5.

[FR Doc. 2011-25109 Filed 9-28-11; 8:45 am]

BILLING CODE 6560-50-P